ENVIRONMENTAL PROTECTION AGENCY

40 CFR Part 52

[EPA-R09-OAR-2022-0925; FRL-10943-02-R9]

Air Quality Implementation Plan; California; Great Basin Unified Air Pollution Control District; Stationary Source Permits

Correction

In Rule Document 2023-27889, appearing on pages 88255 to 88257 in the issue of Wednesday, December 21, 2023, make the following correction:

§ 52.220 Identification of plan-in part. [Corrected]

On page 88257, in the second column, beginning on the thirty-fifth line, the entry “(ii)” should read “(i)”.

On the same page, in the same column, beginning on the thirty-eighth line, the entry “(ii)” should read “(1)”.

[FR Doc. C1-2023-27889 Filed 1-5-24; 8:45 am]

BILLING CODE 0099-10-P